DEPARTMENT OF THE INTERIOR

Bureau of Land Management

[LWO320000.L19900000.PP0000; OMB Control Number 1004-0114]

Agency Information Collection Activities; Recordation of Location Notices and Mining Claims; Payment of Fees

AGENCY: Bureau of Land Management, Interior.

ACTION: Notice of information collection; request for comment.

SUMMARY: In accordance with the Paperwork Reduction Act of 1995, we, the Bureau of Land Management (BLM), are proposing to renew an information collection.

DATES: Interested persons are invited to submit comments on or before June 17, 2019.

ADDRESSES: Send your comments on this information collection request (ICR) by mail to Jean Sonneman. U.S. Department of the Interior, Bureau of Land Management, 1849 C Street NW, Room 2134LM, Washington, DC 20240; or by email to jsonneman@blm.gov. Please reference OMB Control Number 1004-0114 in the subject line of your comments.

FOR FURTHER INFORMATION CONTACT: To request additional information about this ICR, please contact Elaine Guenaga, at 775-861-6539. Persons who use a telecommunication device for the deaf may call the Federal Information Relay Service at 1-800-877-8339, to leave a message for the above person.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the BLM; (2) will this information be processed and used in a timely manner; (3) is the estimate of burden accurate; (4) how might the BLM enhance the quality, utility, and clarity of the information to be collected; and (5) how might the BLM minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

The following information pertains to this request:

Abstract: This control number applies to the location, recording and maintenance of mining claims and sites, in accordance with the Mining Law (30 U.S.C. 22-54), Section 314 of the Federal Land Policy and Management Act (FLPMA) (43 U.S.C. 1744), certain other statutes pertaining to specific Federal lands, and the Stock Raising Homestead Act (43 U.S.C. 299 and 301).

Title of Collection: Recordation of Location Notices and Mining Claims (43 CFR parts 3832, 3833, 3834, 3835, 3836, 3837, and 38380).

OMB Control Number: 1004-0114.

Forms:

• 3830-2, Maintenance Fee Waiver Certification;

• 3830-3, Notice of Intent to Locate a Lode or Placer Mining Claim(s) and/or a Tunnel Site(s) on Lands Patented under the Stock Raising Homestead Act of 1916, As Amended by the Act of April 16, 1993; and

• 3830-4, Affidavit of Annual Assessment Work.

Type of Review: Extension of a currently approved collection.

Respondents/Affected Public: Mining claimants.

Total Estimated Number of Annual Respondents: 27,800.

Total Estimated Number of Annual Responses: 191,492.

Estimated Completion Time per Response: Varies from 30 to 60 minutes per response.

Total Estimated Number of Annual Burden Hours: 95,821.

Respondent's Obligation: Required to obtain a benefit.

Frequency of Collection: On occasion, except Form 3830-2 (which may be filed annually) and annual FLPMA documents (are to be filed annually when required).

Total Estimated Annual Nonhour Burden Cost: $3,078,360.

The estimated annual burdens of this collection are itemized below:

A. Type of response | B. Number of responses | C. Hours per response | D. Total hours (Column B × Column C)
Notice of Intent to Locate Under the Stock Raising Homestead Act (43 CFR part 3838) Form 3830-3 | 142 | 1 hour | 142
Locating Mining Claims or Sites (43 CFR part 3832) | 56,857 | 30 minutes | 28,429
Recording a New Location Notice (43 CFR 3833, subpart A) | 56,857 | 30 minutes | 28,429
Amending a Location Notice (43 CFR part 3833, subpart B) | 3,595 | 30 minutes | 1,798
Transfer of Interest (43 CFR part 3833, subpart C) or Acquisition of a Delinquent Co-Claimant's Interest in a Mining Claim or Site (43 CFR part 3837) | 22,546 | 30 minutes | 11,273
Waiver from Annual Maintenance Fee (43 CFR part 3835, subpart A) Form 3830-2 and/or nonform data | 24,348 | 30 minutes | 12,174
Annual FLPMA Documents (43 CFR part 3835, subpart C) Form 3830-4 | 27,142 | 30 minutes | 13,571
Deferring Assessment Work (43 CFR part 3836, subpart B) | 5 | 1 hour | 5
Totals | 191,492 |  | 95,821

An agency may not conduct or sponsor and a person is not required to respond to a collection of information unless it displays a currently valid OMB control number. The authority for this action is the Paperwork Reduction Act of 1995 (44 U.S.C. 3501 et seq).

Jean Sonneman,
Information Collection Clearance Officer, Bureau of Land Management.

[FR Doc. 2019-07563 Filed 4-15-19; 8:45 am]

BILLING CODE 4310-84-P